Title 3—

The President

Proclamation 10227 of June 11, 2021

Flag Day and National Flag Week, 2021

By the President of the United States of America

A Proclamation

In the midst of a revolution, less than a year after declaring our independence, the Congress consecrated what would become an enduring emblem of American unity by adopting a national flag on June 14, 1777.

In the 244 years since, the United States has grown and changed across the generations—and our flag has changed in turn. The blue field of stars has been enlarged as our Union has gained in size and strength. The 13 stripes, symbolizing the 13 original States, have held as constant as the bedrock values upon which our Nation was first conceived—the very same values we still cherish, and still reach for, today.

Since adoption of the Stars and Stripes, Americans—and people around the world—have continuously looked to our flag as a symbol of unity and liberty. Our flag has sailed around the globe, and journeyed to the Moon and, now, to Mars. It has flown on fields of battle, and marks the resting places of those who have given what President Lincoln called “the last full measure of devotion” for our country. Its prominence at civic landmarks and seats of public authority communicates the promise of democracy—that under this flag, the rule of law is supreme and the people reign. As we continue the sacred work of building a more perfect Union together, let our flag serve as a reminder to us, and to the world, that America stands for and strives for the promise of freedom, justice, and equality for all.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, JOSEPH R. BIDEN JR., President of the United States of America, do hereby proclaim June 14, 2021, as Flag Day, and the week starting June 13, 2021, as National Flag Week. I direct the appropriate officials to display the flag on all Federal Government buildings during this week, and I urge all Americans to observe Flag Day and National Flag Week by displaying the flag. I encourage the people of the United States to observe with pride and all due ceremony those days from Flag Day through Independence Day, set aside by the Congress (89 Stat. 211), as a time to honor the American spirit, to celebrate our history and the foundational values we strive to uphold, and to publicly recite the Pledge of Allegiance to the Flag of the United States of America.

IN WITNESS WHEREOF, I have hereunto set my hand this eleventh day of June, in the year of our Lord two thousand twenty-one, and of the Independence of the United States of America the two hundred and forty-fifth.

[FR Doc. 2021-12842

Filed 6-15-21; 8:45 am]

Billing code 3295-F1-P